DEPARTMENT OF TRANSPORTATION

Federal Aviation Administration

14 CFR Part 21

Alaskan Fuel Hauling as a Restricted Category Special Purpose Flight Operation

AGENCY: Federal Aviation Administration (FAA), (DOT).

ACTION: Notice of policy.

SUMMARY: This notice of policy announces Alaskan fuel hauling as a restricted category special purpose operation under Title 14 of the Code of Federal Regulations (14 CFR) 21.25(b)(7), for aircraft type-certificated under 14 CFR 21.25(a)(1), for operations within the State of Alaska, to provide bulk fuel to isolated individuals or locations in the State of Alaska.

DATES: This policy is August 2, 2012.

FOR FURTHER INFORMATION CONTACT: Federal Aviation Administration, Aircraft Certification Service, Aircraft Engineering Division, Certification Procedures Office (AIR-110), Mike Monroney Aeronautical Center, P.O. Box 26460, Oklahoma City, OK 73125. Attn: Jon Mowery. Telephone (405) 954-4776, fax 405-954-2209, email to: jon.mowery@faa.gov.

SUPPLEMENTARY INFORMATION: On August 6, 2009, a notice of proposed policy was published in the Federal Register (74 FR 39242) in which the FAA proposed to specify Alaskan fuel hauling as a restricted category special purpose operation under 14 CFR 21.25(b)(7). The comment period closed September 8, 2009. This notice of policy addresses only one of the three special purpose operations proposed in 2009. The other two proposals are still under consideration and are not addressed at this time in this notice.

The FAA received comments from six commenters, in three major areas. One of the comments submitted was, “The transport of the fuel could be made safer by limiting the payload on each flight to say 35% of the aircraft weight so there won't be problems with takeoff and landing”. Another commenter proposed that Alaska fuel hauling be limited to aircraft having a maximum certificated takeoff weight (“MTOW”) of 20,000 lb or less. The FAA does not agree with setting an arbitrary maximum weight limit for this special purpose, nor does the FAA see a need to operate below the certificated capabilities of the aircraft. To provide for safe operations, each aircraft used to transport fuel will be required to receive FAA certification for the purpose of fuel hauling. During certification the airplane payload and performance limits will be specified as part of the certification process. All aircraft must be operated within their certificated weight and balance limitations, and airfield performance limitations. No overweight operations will be permitted.

One commenter suggested that the special purpose of fuel hauling be expanded to include operations outside the State of Alaska, while another commenter requested that the proposal be strictly limited to operations conducted solely within the state. The FAA will limit this proposed special purpose to operations in the State of Alaska only. Alaska has a unique dependence on aviation for delivery of essential supplies to remote villages that are not serviced by roads or rail. Most of these villages are served by airports with runways less than 3,000 feet long. The remoteness and limited transportation infrastructure means that air transportation of fuel is the only method to deliver fuel to these areas during many times of the year.

One commenter requested that the FAA confirm that restricted category aircraft certificated for the special purpose of Alaskan fuel hauling would be permitted to conduct these operations in view of the provisions of § 91.313, which provides the operating limitations for aircraft certificated in restricted category. Section 91.313(a) states that no person may operate a restricted category civil aircraft for any purpose other than the special purpose for which it is certificated. Section 91.313(c) states that a restricted category aircraft cannot be used to carry persons or property for compensation or hire. However, this paragraph goes on to say that for the purposes of § 91.313(c) the definition of “for compensation or hire” changes if the special purpose requires the carriage of material necessary for that special purpose. Then carriage of that material is not considered carriage “for compensation or hire”, but only in regards to the limitations in § 91.313(c). For example, an airplane with a restricted category airworthiness certificate for the special purpose of Alaska fuel hauling may carry fuel for commercial gain. However, the operation must comply with 14 CFR part 119, which addresses commercial operations. Since Alaskan fuel hauling does not meet any of the exclusions in 14 CFR part 119, the operation would need to meet the requirements of 14 CFR part 135 or part 121. Operational approval for Alaskan fuel hauling must be obtained from FAA Flight Standards Service in accordance with the operating regulations.

The special purpose of Alaskan fuel hauling was considered for aircraft type-certificated under § 21.25(a)(1). This limitation will result in a higher level of safety than surplus military aircraft type-certificated under § 21.25(a)(2). Compliance with 14 CFR part 36 noise requirements is required for this special purpose. The fuel hauling system must be shown to meet the applicable airworthiness regulations as required by §§ 21.25(a)(1), and 21.101 if appropriate. Upon approval of the fuel hauling configuration of an aircraft for Alaskan fuel hauling, the operator must obtain an airworthiness certificate for the new special purpose.

Accordingly, the Aircraft Engineering Division hereby specifies, under authority delegated by the Administrator, that Alaskan fuel hauling is a restricted category special purpose flight operation under the provisions of § 21.25(b)(7). This approval is limited to aircraft type-certificated under § 21.25(a)(1). This action will enable bulk fuel to be carried to isolated individuals and locations (such as villages, towns, and mining facilities) in the State of Alaska, during times when other methods are impractical.

Issued in Washington, DC, on June 29, 2012.
David W. Hempe,
Manager, Aircraft Engineering Division, Aircraft Certification Service.

[FR Doc. 2012-18557 Filed 8-1-12; 8:45 am]

BILLING CODE 4910-13-P